FEDERAL DEPOSIT INSURANCE CORPORATION

Notice to All Interested Parties of the Termination of the Receiverships of 1309 Carteret Federal Savings Bank, Newark, NJ and 8609 Carteret Savings Bank, F.A.

Notice is hereby given that the Federal Deposit Insurance Corporation (“FDIC”) as Receiver for Carteret Federal Savings Bank, Newark, New Jersey and Carteret Savings Bank, F.A. (“Receiver”) intends to terminate its receiverships for said institutions. The Resolution Trust Corporation (“RTC”) was appointed Receiver for Carteret Federal Savings Bank and Carteret Savings Bank, F.A. and pursuant to 12 U.S.C. 1441a(m)(1) FDIC succeeded RTC as Receiver. The liquidation of receiverships assets has been completed. To the extent permitted by available funds and in accordance with law, the Receiver will be making a final dividend payment to proven creditors.

Based on the foregoing, the Receiver has determined that the continued existence of the receiverships will serve no useful purpose. Consequently, notice is given that the receiverships shall be terminated, to be effective no sooner than thirty days after the date of this Notice. If any person wishes to comment concerning the termination of the receiverships, such comment must be made in writing and sent within thirty days of the date of this Notice to: Federal Deposit Insurance Corporation, Attention: Receivership Oversight Department 32.1, 1601 Bryan Street, Dallas, Texas 75201.

No comments concerning the termination of these receiverships will be considered which are not sent within this timeframe.

Dated at Washington, DC, this 15th day of October 2012.
Federal Deposit Insurance Corporation.
Robert E. Feldman,
Executive Secretary.

[FR Doc. 2012-25659 Filed 10-17-12; 8:45 am]

BILLING CODE 6714-01-P